DEPARTMENT OF HOMELAND SECURITY

Coast Guard

33 CFR Part 165

[COTP SAVANNAH 06-160]

RIN 1625-AA87

Security Zone, Elba Island LNG mooring Slip, Savannah River, Savannah, GA

AGENCY: Coast Guard, DHS.

ACTION: Interim rule with request for comments.

SUMMARY: The Coast Guard is establishing a permanent security zone due to changes in Liquefied Natural Gas (LNG) tankship mooring arrangements following the activation of two new berths within a slip at the Southern LNG Facility on the Savannah River. The security zone includes all the waters from surface to bottom of the northeastern most mooring dolphin to the southeastern most mooring dolphin and continues west along the North and South shoreline of the mooring slip to the shoreline of the right descending bank of the Savannah River. This regulation is necessary to protect life and property on the navigable waters of the Savannah River and within the LNG slip due to potential security risks associated with the LNG Facility.

DATES: This interim rule is effective January 9, 2007. Comments and related material must reach the Coast Guard on or before March 12, 2007.

ADDRESSES: Comments and material received from the public, as well as documents indicated in this preamble as being available in the docket [COTP Savannah 06-160], will become part of this docket and will be available for inspection or copying at Marine Safety Unit Savannah, Juliette Gordon Low Federal Building, Suite 1017, 100 W. Oglethorpe, Savannah, Georgia 31401, between 7:30 a.m. and 4:30 p.m., Monday through Friday, except Federal holidays.

FOR FURTHER INFORMATION CONTACT: Lieutenant Robert Webb, Waterways Management Officer, Marine Safety Unit Savannah; (912) 652-4353.

SUPPLEMENTARY INFORMATION:

Regulatory Information

We did not publish a notice of proposed rulemaking (NPRM) for this regulation. Under 5 U.S.C. 553(b)(B), the Coast Guard finds that good cause exists for not publishing an NPRM. To protect the LNG slip from potential sabotage and unauthorized access prior to a LNG ship arrival, we are publishing this interim rule with request for comments that will become effective upon publication in the Federal Register. Additionally, under 5 U.S.C. 553(d)(3), the Coast Guard finds that good cause exists for making this interim rule effective upon publication in the Federal Register. Delaying implementation of this rule any longer to await public notice and comment would be contrary to the public interest because of the adverse effect on the safety of navigation in the Savannah River, vessel congestion, and the safety and security of LNG transfer operations in the port.

Even though, we did not publish an NPRM, we still encourage you to participate in this rulemaking by submitting comments and related material to the docket. We will accept comments for 60 days, after which we intend to publish the final rule. If you submit comments, please include your name and address, identify the docket number for this rulemaking [COTP Savannah 06-160], indicate the specific section of this document to which each comment applies, and give the reason for each comment. Please submit all comments and related material in an unbound format, no larger than 8½ by 11 inches, suitable for copying. If you would like to know they reached us, please enclose a stamped, self-addressed postcard or envelope. We will consider all comments and material received during the comment period. We may change this interim rule in view of them.

Public Meeting

We do not plan to hold a public meeting on the interim rule. But you may submit a request for a meeting by writing to MSU Savannah (see ADDRESSES above) explaining why one would be beneficial. If we determine that one would aid this rulemaking, we will hold one at the time and place announced by a later notice in the Federal Register.

Background and Purpose

In May of 2002, Southern LNG, Inc., submitted a letter of intent to expand the LNG facility on Elba Island that would nearly double the LNG storage capacity and substantially increase the number of LNG tankship arrivals. The expansion project, completed in early 2006, resulted in the creation of two new berths within a slip at the Southern LNG Facility on the Savannah River. The design of the new slip inadvertently creates a safe refuge off the Savannah River with unrestricted access to LNG berths. As a result, the LNG facility and arriving LNG vessels are put at risk of sabotage or other adverse action that could result in significant damage to property and loss of life.

This concern was confirmed by an incident on June 6, 2006, when a sailing vessel entered the LNG slip and anchored for six hours, one day before the scheduled arrival of an LNG carrier. This incident raised security concerns and prompted the LNG facility to conduct a visual inspection of the above water mooring features and a complete underwater survey, in turn delaying the LNG vessel. The visual inspection and underwater survey was necessary to ensure no objects that could potentially harm the vessel or facility were left in the slip. Although the incident did not result in any harm to the facility or vessel, it was recognized by the Coast Guard that a potential vulnerability exists in the security of the LNG slip.

Additionally, as the demand for natural gas continues to grow, Southern LNG plans to expand its current operation, potentially increasing both the size and frequency of LNG vessel arrivals and further concerns over a potential accidental spill or intentional release of LNG. The risks and hazards from an LNG spill will vary depending on the size of the spill, environmental conditions, and the site at which the spill occurs. Hazards can include cryogenic burns to the ship's crew and people nearby or potential damage to the LNG ship from contact with the cryogenic LNG. Vaporization of the liquid LNG can occur once a spill occurs and subsequent ignition of the vapor cloud could cause fires and overpressures that could injure people or cause damage to the tanker's structure, other LNG tanks, or nearby structures.

Therefore, the incident of June 6, 2006, discussed above, the hazards associated with the transportation of LNG, and the expansion of Elba Island LNG facility necessitate making this interim rule effective upon publication with a 60-day request for comment period. Additionally, this security zone is necessary to protect the berths and moored LNG vessels within the LNG slip from potential sabotage and unauthorized access prior to an LNG ship arrival.

Discussion of Interim Rule

The Security Zone encompasses the following area: All the waters from surface to bottom of the northeastern most mooring dolphin located at approximately 32° 05.01′ North, 080° 59.38′ West, to the southeastern most mooring dolphin located at approximately 32° 04.49′ North, 080° 59.20′ West, and continues west along the North and South shoreline of the mooring slip to the shoreline of the right descending bank of the Savannah River. All marine traffic is prohibited from entering this zone unless authorized by the Captain of the Port (COTP).

Regulatory Evaluation

This rule is not a “significant regulatory action” under section 3(f) of Executive Order 12866, Regulatory Planning and Review, and does not require an assessment of potential costs and benefits under section 6(a)(3) of that Order. The Office of Management and Budget has not reviewed it under that Order. It is not significant under the regulatory policies and procedures of the Department of Homeland Security.

We expect the economic impact of this proposed rule to be so minimal that a full Regulatory Evaluation is unnecessary. These regulations will have minimal impact on recreational and commercial vessels and is necessary to protect the berths and moored LNG vessels within the LNG slip from potential sabotage and unauthorized access prior to an LNG ship arrival. This security zone is outside the channel and outside recreational vessel grounds. It encompasses waters inside the LNG terminal piers. Therefore, it should have a minimal impact on recreational and commercial vessels.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities. This security zone will only restrict access to a limited area, immediately surrounding an LNG facility, where vessels should not be operating due to the danger associated with the facility.

If you think that your business, organization, or governmental jurisdiction qualifies as a small entity and that this rule would have significant economic impact on it, please submit a comment (see ADDRESSES) explaining why you think it qualifies and how and to what degree this rule would economically affect it.

Assistance for Small Entities

Under section 213(a) of the Small Business Regulatory Enforcement Fairness Act of 1996 (Pub. L. 104-121), we want to assist small entities in understanding this proposal so that they could better evaluate its effects on them and participate in the rulemaking. If the rule would affect your small business and you have questions concerning its provisions or options for compliance, please contact the person listed under FOR FURTHER INFORMATION CONTACT. Small businesses may also send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. This interim rule would not result in such an expenditure.

Taking of Private Property

This rule would not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that might disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Environment

We have analyzed this rule under Commandant Instruction M16475.1D and Department of Homeland Security Management Directive 5100.1, which guide the Coast Guard in complying with the National Environmental Policy Act of 1969 (NEPA) (42 U.S.C. 4321-4370f), and have concluded that there are no factors in this case that would limit the use of a categorical exclusion under section 2.B.2 of the Instruction. Therefore, this rule is categorically excluded, under figure 2-1, paragraph (34)(g), of the Instruction, from further environmental documentation. A final “Environmental Analysis Checklist” and a final “Categorical Exclusion Determination” are available in the docket where indicated under ADDRESSES.

List of Subjects in 33 CFR Part 165

Harbors, Marine safety, Navigation (water), Reporting and recordkeeping requirements, Safety measures, Waterways.

For the reasons discussed in the preamble, the Coast Guard amends 33 CFR part 165 as follows:

PART 165—REGULATED NAVIGATION AREAS AND LIMITED ACCESS AREAS

1. The authority citation for part 165 continues to read as follows:

Authority: 33 U.S.C. 1226, 1231; 46 U.S.C. Chapter 701; 50 U.S.C. 191, 195; 33 CFR 1.05-1(g), 6.04-1, 6.04-6, and 160.5; Pub. L. 107-295, 116 Stat. 2064; Department of Homeland Security Delegation No. 0170.1.

2. A Section 165.751 is added to read as follows:

§ 165.751 Security Zone: LNG mooring Slip, Savannah River, Savannah, Georgia.

(a) Security Zone. The following area is a security zone: All the waters from surface to bottom of the northeastern most mooring dolphin located at approximately 32°05.01′ North, 080°59.38′ West, to the southeastern most mooring dolphin located at approximately 32°04.49′ North, 080°59.20′ West, and continues west along the North and South shoreline of the mooring slip to the shoreline of the right descending bank of the Savannah River. All marine traffic is prohibited from entering this zone unless authorized by the Captain of the Port (COTP).

(b) Applicability. This section applies to all vessels including naval and other public vessels, except vessels that are engaged in the following operations: (1) Law enforcement, security, or search and rescue; (2) servicing aids to navigation; (3) surveying, maintenance, or improvement of waters in the security zone; or (4) actively engaged in escort, maneuvering, or support duties for an LNG tankship.

(c) Regulations. In accordance with the general regulations in § 165.33 of this part, entry into or movement within this zone is prohibited unless authorized by the Captain of the Port Savannah or vessels engaged in activities defined in paragraph (b).

(d) Reporting of Violations. Violations of this section should be reported to the Captain of the Port, Savannah, at (912) 652-4353. In accordance with the general regulations in § 165.13 of this part, no person may cause or authorize the operation of a vessel in the security zone contrary to the provisions of this section.

Dated: October 27, 2006.
D.W. Murk,
Commander, U.S. Coast Guard, Captain of the Port.

[FR Doc. 07-38 Filed 1-8-07; 8:45 am]

BILLING CODE 4910-15-M